SECURITIES AND EXCHANGE COMMISSION

Sunshine Act Meetings

FEDERAL REGISTER CITATION OF PREVIOUS ANNOUNCEMENT: 85 FR 81961, December 17, 2020

PREVIOUSLY ANNOUNCED TIME AND DATE OF THE MEETING: Monday, December 21, 2020 at 11:00 a.m.

CHANGES IN THE MEETING: The Closed Meeting scheduled for Monday, December 21, 2020 at 11:00 a.m. has been changed to Monday, December 21, 2020 at 10:00 a.m.

CONTACT PERSON FOR MORE INFORMATION: For further information and to ascertain what, if any, matters have been added, deleted or postponed, please contact Vanessa A. Countryman from the Office of the Secretary at (202) 551-5400.

Dated: December 18, 2020.
Vanessa A. Countryman,
Secretary.

[FR Doc. 2020-28540 Filed 12-21-20; 11:15 am]

BILLING CODE 8011-01-P